FEDERAL MEDIATION AND CONCILIATION SERVICE

Senior Executive Service Performance Review Board

AGENCY: Federal Mediation and Conciliation Service (FMCS).

ACTION: Notice of Senior Executive Service Performance Review Board.

SUMMARY: The Federal Mediation and Conciliation Service (FMCS) is issuing this notice to inform the public of the names of the members of the Agency's Senior Executive Service (SES) Performance Review Board.

DATES: This SES Performance Review Board is effective October 25, 2022.

FOR FURTHER INFORMATION CONTACT: Alisa Zimmerman, Acting General Counsel, 202-606-5488, ogc@fmcs.gov, 250 E St. SW, Washington, DC 20427.

SUPPLEMENTARY INFORMATION: Sec. 4314(c)(1) through (5) of title 5, U.S.C., requires each agency to establish, in accordance with regulations prescribed by the Office of Personnel Management, one or more performance review boards. The board shall review and evaluate the initial appraisal of a senior executive's performance by the supervisor, along with any recommendations to the appointing authority relative to the performance of the senior executive.

The members of FMCS's Performance Review Board are:

1. Marla Hendriksson, Deputy Director for the Office of Partnership and Operational Policy, Office of Regulatory Affairs, Food and Drug Administration, Department of Health and Human Services

2. Javier Ramirez, Deputy Director Field Operations, Federal Mediation and Conciliation Service

3. Angie Titcombe, Director of Human Resources, Federal Mediation and Conciliation Services

4. Josh Flax, Deputy Director for Policy and Strategy, Federal Mediation and Conciliation Service

Dated: October 20, 2022.
Alisa Zimmerman,
Acting General Counsel.

[FR Doc. 2022-23209 Filed 10-24-22; 8:45 am]

BILLING CODE 6732-01-P